ENVIRONMENTAL PROTECTION AGENCY

[ER-FRL-6628-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 11992).

Draft EISs

ERP No. D-FHW-D40316-WV Rating EC2, US-340 Transportation Corridor Improvement Study, Implementation, Proposal to Improve US 340 from the four-lane Section of the Charles-Town Bypass, Jefferson County, WV.

Summary: EPA has environmental concerns with the considerable amount of floodplain impacts along Bullskin Run, and the analysis of cumulative impacts. Additional information has been requested to show that floodplain impacts are indeed minimal, and that design features could be incorporated to minimize those impacts. EPA suggested that the cumulative impact analysis be done from a resource perspective, not a development perspective.

ERP No. D-FHW-E50293-00 Rating EO2, Louisville-Southern Indiana Ohio River Bridges Projects, To Improve Cross-River Mobility between Jefferson County, KY and Clark County, ID, Coast Guard Bridge and US Army COE Section 10 and 404 Permits Issuance, Jefferson County, KY and Clark County, IN.

Summary: Environmental issues exist regarding wetlands, streams, cultural/community impacts, traffic noise, and habitat. EPA requested additional information and clarification regarding these impacts and avoidance/mitigation measures.

ERP No. D-FHW-F40400-MN Rating EO2, Trunk Highway (TH) 169 Improvement Project, Improvements to TH-169 from TH-27 north of the City of Onamia to the Intersection of TH-18 and TH-6 northwest of the City of Garrison, Crow Wing and Mille Lacs Counties, MN.

Summary: EPA has identified issues with and requested information regarding the effectiveness of the alternatives; potential impacts to aquatic resources and compliance with the Section 404(b)(1) Guidelines; water quality, and pedestrian impacts.

ERP No. D-FHW-F59003-IL Rating EC2, Lake County Transportation Improvement Project, To Identify a System of Strategic Roadway, Rail, and Bus Improvements, Transportation Management Strategies, Lake County, IL.

Summary: EPA has environmental concerns with respect to aquatic resources/Clean Water Act Section 404(b)(1) Guidelines compliance, wetland functional assessment methodology, water quality, indirect land use effects, and about how either alternative may impact resources, since either build alternative will adversely impact a significant amount of wetlands, many of which are of high quality. However, we believe that appropriate avoidance and minimization measures have been taken at this stage in the analysis. EPA recommends that the FEIS provide specific information about what analysis and determinations are planned for Tier 1 versus Tier 2 NEPA documentation.

ERP No. D-IBR-K39072-00 Rating EC2, Implementation Agreement (IA), Inadvertent Overrun and Payback Policy (IOP), and Related Federal Actions, Implementation, Quantification Settlement Agreement (QSA), Lower Colorado River, in the States of AZ, CA and NV.

Summary: EPA expressed environmental concern with potential impacts to water and air quality, biological resources, Indian tribes, and potential cumulative impacts on water quality and the increased probability of more frequent and higher magnitude water shortages for other users of Lower Colorado River water, and with the related implementation of the Quantification Settlement Agreement and Imperial Irrigation District/San Diego County Water Authority Water Transfer and significant information gaps in the environmental documentation.

ERP No. D-NOA-A91067-00 Rating EC2, Deep-sea Red Crab (Chaceon quinquedens) Fisheries, Fishery Management Plan, Development and Implementation, Norfolk Canyon in the south to the Haque Line in the north, Continental United States and Exclusive Economic Zone (EEZ).

Summary: EPA requested additional information on minimum size, holding bottom traps, and unauthorized sales.

ERP No. DS-GSA-K80037-CA Rating LO, San Diego-United States Courthouse Annex Project, Site Selection and Construction, New Information concerning Addition of the Union Street with Hotel San Diego Facade and Lobby Alternative, Central Business District (CBD), City of San Diego, San Diego County, CA.

Summary: EPA expressed a lack of objections with the DSEIS, but recommended that GSA's Final EIS address the applicability of Executive Orders on energy and water conservation, using environmentally preferable materials for facility construction, waste prevention, recycling, and other feasible pollution prevention measures; as well as the Council on Environmental Quality's handbook on analyzing cumulative effects under NEPA.

Dated: April 23, 2002.
B. Katherine Biggs,
Associate Director, NEPA Compliance Division, Office of Federal Activities.

[FR Doc. 02-10342 Filed 4-25-02; 8:45 am]

BILLING CODE 6560-50-P